DEPARTMENT OF DEFENSE

Department of the Army

Update to the TR-12 Fuel Related Rate Adjustment Policy (SDDC Fuel Surcharge Policy)

AGENCY: Department of the Army, DOD.

SUMMARY: FRA for freight-all-kinds (FAK) and transportation protective service (TPS) truckload (TL) shipments will be calculated using a mileage-based formula. The current percentage of line-haul formula will remain in effect for less-than-truckload (LTL) and Personal Property (PP) shipments. The percentage of line-haul increment factor will increase from $.10 to $.13. The baseline will remain at $2.50. At the discretion of SDDC, FRA may be paid for negotiated shipments based on the terms of the negotiation.

Changes to PP will become effective in 15 May 2013. The mileage-based formula and the increment change will take effect in 1 June 2013 for FAK and TPS. No changes made to DTC or PSSFC FRA effective dates.

The above changes will not apply to the Defense Transportation Coordination (DTC) contract or the Protective Security Service Freight Contract (PSSFC) for Defense Distribution Center, Warner Robins, GA (DDWG). Shipments for DTC and PSSFC DDWG will be calculated using a percentage of line haul formula with $.10 increments. DTC baseline will remain at $1.30 and PSSFC DDWG will remain at $2.50.

SDDC will not pay FRA on “Spot Bid” or One Time Only (OTO) personal property movements, regardless of mode. SDDC will not pay a FRA for any type of rail shipment. SDDC will not pay FRA on commercial security escort vehicles (CSEV).

ADDRESSES: Submit comments to, Strategy, Plans, Policy and Programs Division, Strategy & Analysis Division, 1 Soldier Way, Building 1900W, ATTN: SDDC-SPS, Scott AFB 62225. Request for additional information may be sent by email to: usarmy.scott.sddc.mbx.hq-g35-strat-analysis@mail.mil.

FOR FURTHER INFORMATION CONTACT: Isis Green, (618) 220-5078.

SUPPLEMENTARY INFORMATION: Reference: TR-12 Fuel Related Rate Adjustment Policy.

Background: The following FRA policy applies to commercial TSP freight and personal property movements within the United States. This policy provides the transportation industry, including individual TSPs, economic adjustment and reasonable relief for unanticipated increases in diesel fuel prices.

Miscellaneous: A copy of the TR-12 FRA Policy can be accessed via the SDDC Web site at: http://www.sddc.army.mil/GCD/default.aspx.

This version of Policy No. TR-12 supersedes all previous versions of TR-12, except to the extent that a previous version is explicitly referenced as the basis for payment in an agreement with SDDC.

Debbie Harvey-Davis,
Division Chief, SDDC-G5, Strategy & Analysis Division.

[FR Doc. 2012-29694 Filed 12-7-12; 8:45 am]

BILLING CODE 3710-08-P